DEPARTMENT OF TRANSPORTATION

Federal Transit Administration

Fiscal Year 2025 Solicitation of Proposals for the National Rural Transit Assistance Program

AGENCY: Federal Transit Administration (FTA), Department of Transportation (DOT).

ACTION: Notice of funding opportunity (NOFO).

SUMMARY: The Federal Transit Administration (FTA) announces the opportunity to apply for $3,250,723 in Fiscal Year (FY) 2024 Rural Transportation Assistance Program funds through a competitive cooperative agreement award. FTA is soliciting proposals under the agency's Formula Grants for Rural Areas Program to select an entity to administer a National Rural Transit Assistance Program (National RTAP). The National RTAP will carry out activities to design and implement training and technical assistance projects and other support services tailored to meet the specific needs of transit operators in rural areas, including tribal transit services. Primary activities will include the development of information and materials for use by local operators and State administering agencies and supporting research and technical assistance projects of national interest.

DATES: Complete proposals for the National RTAP must be submitted electronically through the Grant.GOV “Apply” function by 11:59 p.m. Eastern time on November 12, 2024. Late applications will not be accepted. Prospective applicants should register as soon as possible on the GRANTS.GOV website to ensure completion of the application process before submission deadline.

ADDRESSES: Instructions for applying can be found on FTA's website at https://www.transit.dot.gov/notices-funding/fy24-notice-funding-opportunity-national-rural-transit-assistance-program and in the “FIND” module of GRANTS.GOV. The funding opportunity ID is FTA-2024-014-TPM-NRTAP Mail and fax submissions will not be accepted.

FOR FURTHER INFORMATION CONTACT: Heather Edmonds, FTA Office of Program Management at (202) 366-3748; Email heather.edmonds@dot.gov. A TDD is available for individuals who are deaf or hard of hearing at 800.877.8339.

SUPPLEMENTARY INFORMATION:

Summary of Key Information: National Rural Transit Assistance Program Competitive Funding Opportunity
Issuing agency | Federal Transit Administration, U.S. Department of Transportation
Program Overview | The National RTAP provides for the development of information and materials for use by rural and tribal transit operators, State DOTs and State funded transit agencies, and supports research and technical assistance projects of national interest.
Eligible Applicants | Eligible applicants are non-profit organizations with rural and tribal transportation experience that have the capacity to provide public transportation-related technical assistance and the ability to deliver a national technical assistance and training program.
Eligible Projects | The National RTAP is funded under the Formula Grants for Rural Areas Program to enhance the delivery of public transportation services provided by State Departments of Transportation (DOTs) and operators of rural and tribal transit. Rural transit systems and community transit drivers, dispatchers, maintenance workers, managers, and board members need special skills and knowledge to provide quality service to their diverse customers across large, rural service areas. The National RTAP carries out projects of a national scope that provide transportation technical assistance in these areas.
Funding Amount | $3,250,723 for the first year, including $500,000 for programs specific to tribal transit.
Cost Share | The maximum Federal share of project costs under this program is 100 percent.
Deadline | November 12, 2024 at 11:59 PM Eastern Time.

Table of Contents

A. Program Description

B. Federal Award Information

C. Eligibility Information

D. Application and Submission Information

E. Application Review Information

F. Federal Award Administration

G. Federal Awarding Agency Contacts

H. Other Information

A. Program Description

This Notice of Funding Opportunity (NOFO) supports FTA's strategic goals and objectives by promoting safe, affordable, accessible, and multimodal access to opportunities and services while reducing transportation-related disparities, adverse community impacts, and health effects. FTA is soliciting proposals for a cooperative agreement for a project of national scope under the Rural Transit Assistance Program (49 U.S.C. 5311(b)(3)), Assistance Listing 20.509. The Formula Grants for Rural Areas Program authorizes the Secretary of Transportation to carry out a Rural Transit Assistance Program (RTAP) in rural areas to enhance the delivery of public transportation services provided by State Departments of Transportation (DOTs) and operators of rural and tribal transit. Since 1979, FTA has provided grants to States under the Formula Grants for Rural Areas Program and its predecessor programs to establish and maintain transit systems in communities with populations of less than 50,000 individuals. Rural transit systems and community transit drivers, dispatchers, maintenance workers, managers, and board members need special skills and knowledge to provide quality service to their diverse customers across large, rural service areas. The National RTAP was created in 1997 to carry out projects of a national scope that provide transportation assistance in these areas.

The National RTAP provides for the development of information and materials for use by local operators, State DOTs and State funded transit agencies, and supports research and technical assistance projects of national interest. The FTA carries out the objectives of the National RTAP through a cooperative agreement that establishes and provides financial assistance for these activities. FTA selected the current recipient to administer the National RTAP in 2019. Consistent with the U.S. Department of Transportation's policy to maximize competition in discretionary awards, every five years the FTA competes the administration of the National RTAP.

FTA also supports assistance for local RTAP activities through funding apportionments to the States. The State RTAPs develop and implement training and technical assistance in conjunction with the State's administration of the Formula Grants for Rural Areas Program. The State RTAPs and the National RTAP complement each other, and both are funded under the Formula Grants for Rural Areas Program. The objectives of the National RTAP are:

• Objective 1: To promote the delivery of safe, effective and efficient public transportation in rural areas, including tribal transit systems.

• Objective 2: To support State and local governments, including tribal governments, in addressing the training and technical assistance needs of the rural and tribal transit community.

• Objective 3: To conduct research, including analysis of data reported to FTA's National Transit Database, and to maintain current profiles of the characteristics of rural transit as well as an inventory of rural, tribal and specialized transportation providers.

• Objective 4: To develop materials, tools, trainings and network opportunities to address the unique needs of tribal transit providers and help build sustainable capacity in tribal transit programs.

• Objective 5: To implement pilot grants to develop community and state-level transportation innovations focused on increasing access and mobility in rural and tribal areas.

Since its inception, the National RTAP has developed and distributed training materials, provided technical assistance, generated reports, published best practices, produced scholarships, conducted research, and offered peer assistance with the goal of improved mobility for the millions of Americans living in rural communities. The National RTAP also has developed tools for use by rural transit providers in providing their service, and provided access to scholarship, research and training through sponsorship of and participation in conferences attended by a variety of constituents with interest in rural and tribal transit. For more information on the various programs and services provided by the National RTAP, visit the National RTAP website at https://www.nationalrtap.org.

B. Federal Award Information

FTA is authorized to use two percent of funds appropriated for the Formula Grants for Rural Areas Program for research, technical assistance, training, and related support services in rural areas. Of this amount, not more than 15 percent can be used for the National RTAP, with the remaining amount apportioned to states for state RTAP activities. FTA intends to fund the National RTAP with $3,250,723 in Fiscal Year (FY) 2024 funds for the first year. This includes an additional $500,000 made available through the Consolidated Appropriations Act, 2024 for National RTAP programming specific to tribal transit. FTA may extend funding for this center for up to five years in total; however, subsequent funding will depend upon: (1) future authorization and appropriations; (2) decisions and program priorities established by the Secretary of Transportation related to implementation of the National Rural Transit Assistance program; and (3) performance of the recipient.

This funding opportunity will be awarded under the terms of a cooperative agreement. This cooperative agreement will be managed from FTA's headquarters office. FTA will participate in activities by negotiating the final statement of work, attending review meetings, commenting on technical reports, maintaining frequent contact with the project manager, approving key decisions and activities, and redirecting project activities, as needed.

FTA will issue specific guidance to the awardee regarding pre-award authority at the time of selection. For more information about FTA's policy on pre-award authority, please see the most recent Apportionment Notice on FTA's website, https://www.transit.dot.gov/funding/apportionments/current-apportionments.

C. Eligibility Information

Eligible applicants are non-profit organizations with rural and tribal transportation experience that have the capacity to provide public transportation-related technical assistance and the ability to deliver a national technical assistance and training program. Individuals, for-profit entities, and Federal agencies are ineligible to apply for this funding.

There is no requirement for non-federal matching funds or cost sharing for this program.

D. Application and Submission Information

1. Address To Request Application Package

Applications must be submitted electronically through GRANTS.GOV, as described above. General information for registering and submitting applications through GRANTS.GOV can be found at https://www.grants.gov/applicants/grant-applications/how-to-apply-for-grants along with specific instructions for the forms and attachments required for submission. Mail and fax submissions will not be accepted.

2. Content and Form of Application Submission

A complete proposal submission will consist of at least two files: (1) the Standard Form (SF) 424 Application for Federal Assistance (downloaded from GRANTS.GOV or the FTA website https://www.transit.dot.gov/notices-funding/fy24-notice-funding-opportunity-national-rural-transit-assistance-program; and (2) a narrative application document submitted in a Microsoft Word, Adobe Acrobat, or compatible file format, double-spaced using Times New Roman, 12-point font. Once completed, the narrative application must be placed in the attachments section of the SF-424 form. Applicants must attach the narrative application file to their submission in GRANTS.GOV to successfully complete the proposal process. The narrative application should be in the format outlined in Section 2 below. A proposal submission may contain additional supporting documentation as attachments.

The application must include responses to all sections of the SF-424 Mandatory Form and all components of the narrative application document unless a section is indicated as optional. FTA will use the information in the narrative application document to determine applicant and project eligibility for the program and to evaluate the proposal against the selection criteria described in part E of this notice.

Applicants must fill in all fields unless stated otherwise on the SF-424 form and include all requested components of the narrative application document. If applicants copy information from another source, they should verify that the form and narrative application document have fully captured pasted text and that it has not truncated the text due to character limits built into the form. Applicants should use both the “Check Package for Errors” and the “Validate Form” buttons on all required fields in the SF-424.

The narrative application must contain the following components and adhere to the specified maximum lengths:

a. Cover sheet (1 page). The cover sheet must include the name of the entity submitting the proposal, the principal's name, title, and contact information (e.g., address, phone, and email), and the name and contact information for the key point of contact for each function of the agreement (if different from principal) referenced under the “Project Description” section of this Notice.

b. Detailed budget proposal and budget narrative (not to exceed 3 pages).

c. Project narrative and qualifications (not to exceed 10 pages) The project narrative should address:

i. The methodology for addressing the project goals, objectives, activities, deliverables, milestones, timeline and intended outcomes for the National Rural Transit Assistance Program;

ii. The methodology to develop performance measures and track the outcomes and benefits of the National Rural Transit Assistance Program, including how applicant will assess success;

iii. The existing and future capacity of the organization to address the issues outlined in the proposal and the organization's ability to implement goals, objectives, activities, milestones, deliverables and intended outcomes;

iv. The applicants' understanding of rural and tribal transit needs; including knowledge and experience with identifying and addressing issues related to funding and operation of rural and tribal transit systems;

v. A detailed plan for communication, technical assistance, and outreach at the state and local levels;

vi. The applicant's experience with grant-making, developing performance measures, tracking performance measures and spending and communicating lessons learned and project benefits to stakeholders;

vii. A plan to work with stakeholders and build partnerships at the national level; including how the applicant will work with State and local partners and stakeholders to promote coordination of transportation services;

viii. Qualifications of lead staff, not to exceed one page per person, including: (1) Prior experience providing technical assistance, especially related to public transit in rural and tribal areas; (2) prior experience implementing the other tasks outlined in this solicitation; (3) staff members' knowledge of issues related to public transit in rural and tribal communities, (4) staff members' experience working directly with tribal entities; and (5) a biographical sketch for each lead staff member.

d. Statement of Activities (not to exceed 10 pages). The application also should discuss how the recipient will perform the following short-term and long-term activities:

Short-Term Activities:

1. Hiring needed staff and setting up the center, including developing an interactive website that houses and delivering a library of tools, topics, articles, best practices for rural and tribal transit providers; acting as a clearinghouse for rural and tribal transit information; and facilitating outreach to State and local partners and stakeholders.

2. Developing an online fully functional National RTAP Help Desk that will enable email and phone technical assistance inquiries and responses on rural and tribal transit questions/topics; this system should be able to gather performance measures that track web-analytics, technical assistance requests, types of requests, and enable a quarterly report to FTA on what activities have been completed, how many people have received assistance; the cost of that assistance; and the satisfaction of those who sought assistance.

3. Developing a Scope of Work for National RTAP's first year of operations, including but not limited to:

○ A communications and outreach plan to promote the center, training and technical assistance products and relevant news through various channels (e.g., social media, newsletter, blogs) and engage stakeholders, partners and State RTAP programs.

○ Recommendations to FTA on a planning/pilot grant program that support partnerships and innovative transportation solutions to increase community access in rural and tribal areas.

○ A plan for how National RTAP will deliver training and technical assistance and recommendations to FTA on the data needs to help track and assess rural and tribal transit needs.

Long-term/ongoing activities:

1. Providing technical assistance in a variety of ways to rural and tribal transit operators and support to State RTAP programs:

○ Operating a toll-free number and email to respond to inquiries from rural and tribal transit operators. Developing a system to track inquires and responses.

○ Developing and promoting written and electronic training materials that assist rural and tribal operators (e.g., online courses, technical briefs, toolkits, case studies, etc.).

○ Maintaining a resource library of case studies, promising and best practices, videos, publications, webinars and other training materials.

2. Providing technical assistance to assist recipients, subrecipients, and potential future grantees with challenges around accessing FTA funding programs (e.g., Section 5311 and Tribal Transit Program) to increase transit sustainability.

3. Coordinating with other organizations to build national connections to assist states and rural communities with transit system improvements.

4. Developing a community grant program that offers funding for planning and/or pilot projects to foster partnerships, coordination of services and increased transit access for rural and tribal communities.

5. Providing peer-to-peer meeting exchanges and collaboration opportunities, while expanding dialogue with rural and tribal transit partners and fostering relationships with other non-traditional partners.

6. Developing a feedback system that enables opportunities for improvement of the Center's customer service, programs, and processes.

7. Identifying performance measures, evaluating and reporting on National RTAP activities and outputs.

e. Supplemental Materials. Supplemental materials such as bios and letters of support may be included in an appendices section that is beyond the page limits above but may not exceed 15 additional pages.

3. Unique Entity Identifier and System for Award Management (SAM)

Each applicant is required to: (1) register in SAM.GOV before submitting an application; (2) provide a valid unique SAM entity identifier in its application; and (3) continue to maintain an active SAM registration with current information, at all times during which the applicant has an active Federal award or an application or plan under consideration by FTA. FTA may not make an award until the applicant has complied with all applicable unique entity identifier and SAM.GOV requirements. If an applicant has not fully complied with the requirements by the time FTA is ready to make an award, FTA may determine that the applicant is not qualified to receive an award and use that determination as a basis for making the award to another applicant. These requirements do not apply if the applicant: (1) Is excepted from the requirements under 2 CFR 25.110(b) or (c); or (2) has an exception approved by FTA under 2 CFR 25.110(d). SAM.GOV registration takes approximately 3-5 business days, but FTA recommends allowing ample time, up to several weeks, for completion of all steps. For additional information on obtaining a unique entity identifier, please visit https://www.sam.gov.

4. Submission Dates and Times

Project proposals must be submitted electronically through GRANTS.GOV and must be received by 11:59 p.m. Eastern time on November 12, 2024. GRANTS.GOV attaches a time stamp to each application at the time of submission. Late applications will not be accepted. Mail and fax submissions will not be accepted. Prospective applicants should initiate the process by registering on the GRANTS.GOV website promptly to ensure completion of the application process before the submission deadline.

FTA urges applicants to submit proposals at least 72 hours prior to the due date to allow time to receive the validation messages and to correct any problems that may have caused a rejection notification. GRANTS.GOV scheduled maintenance and outage times are announced on the GRANTS.GOV website. Deadlines will not be extended due to scheduled website maintenance.

Within 48 hours after submitting an electronic application, the applicant should receive two email messages from GRANTS.GOV: (1) Confirmation of successful transmission to GRANTS.GOV; and (2) confirmation of successful validation by GRANTS.GOV. If confirmation of successful validation is not received or a notice of failed validation or incomplete materials is received, the applicant must address the reason for the failed validation, as described in the email notice, and resubmit before the submission deadline. If making a resubmission for any reason, include all original attachments regardless of which attachments were updated.

Applicants are encouraged to begin the process of registration on the GRANTS.GOV site well in advance of the submission deadline. Registration is a multi-step process, which may take several weeks to complete before an application can be submitted. Registered applicants may be required to take steps to keep their registration up to date before submissions can be made successfully. Registration in SAM.GOV is renewed annually and persons making submissions on behalf of the Authorized Organization Representative (AOR) must be authorized in GRANTS.GOV by the AOR to make submissions.

5. Funding Restrictions

This award is subject to the Governmentwide Uniform Administrative Requirements and Cost Principles (2 CFR part 200) and FTA Circular 5010.1. Capital expenses such as equipment purchases are not considered to be eligible costs unless they directly relate to the technical assistance being supported by FTA funds. Acceptable costs can include but are not limited to technology and start-up costs for information technology systems and website resources, subject matter expert consultants as needed, salaries and fringe benefits of direct staff, support staff, staff travel to attend relevant conferences and provide on-site technical assistance, office space, program materials and supplies, and indirect costs.

Funds awarded under this notice cannot be used to reimburse projects for otherwise eligible expenses incurred prior to FTA award of a Grant Agreement or Cooperative Agreement unless FTA has issued a “Letter of No Prejudice” for the project before the expenses are incurred. Allowable direct and indirect expenses must be consistent with the Governmentwide Uniform Administrative Requirements and Cost Principles (2 CFR part 200) and FTA Circular 5010.1.

E. Application Review Information

1. Criteria

FTA will evaluate proposals according to the following criteria:

a. Methodology for Achieving the Objectives of the National RTAP;

b. Qualifications and Experience of Staff and Key Personnel;

c. Communication, Technical Assistance, and Outreach Strategy;

d. Technical, Legal, and Financial Capacity;

e. Ability to Work with Stakeholders and Build Partnerships at the National Level; and

f. Plan to Evaluate the National RTAP activities.

The criteria are explained below:

a. Methodology for Achieving the Objectives of the National RTAP

FTA is seeking innovative and effective approaches and strategies to accomplish the project objectives. Proposals will be evaluated based on the proposed methodology for addressing the objectives of the National RTAP, as well as the capacity of the organization to address the issues outlined in the proposal. The proposal should clearly explain the objectives, activities, deliverables, milestones, timeline and intended outcomes for achieving the goals outlined in the scope for the first year, and how the organization intends to implement them.

b. Qualifications and Experience of Staff and Key Personnel

The proposal should demonstrate that staff and key personnel have the appropriate skills and experience to carry out the activities. FTA will evaluate the qualifications and experience of the key staff detailed in the proposal for their: (1) Prior experience providing technical assistance, especially related to public transit in rural and tribal areas, (2) prior experience implementing the other tasks outlined in this solicitation, (3) knowledge of issues related to public transit in rural and tribal areas.

c. Communication, Technical Assistance, and Outreach Strategy

The proposal should demonstrate the ability to execute a technical assistance program with a national scope, as well as strategies for delivering targeted assistance to State, regional, and local stakeholders. Proposing organizations are encouraged to think innovatively about this technical assistance delivery. The proposal also should demonstrate the ability to carry out outreach, dissemination, and information management activities. These activities will include capturing and sharing useful and best practices in rural and tribal transportation operations, as well as supporting activities related to FTA's tribal transit program. The proposal should demonstrate innovative approaches, such as the use of communication that is accessible through social media and other information technologies, to accomplish effective stakeholder strategies that both manage and plan the engagement. Rural and tribal communities have unique needs, and the proposal should demonstrate effective strategies for providing technical assistance to address community needs, reflect engagement touchpoints and the ability to meaningfully engage with these communities to produce successful transportation outcomes.

d. Technical, Legal, and Financial Capacity

The proposal must include an effective project management plan to administer and manage the National RTAP and must demonstrate that the applicant has the technical, legal, and financial capacity to carry out the plan. FTA will evaluate the applicant's:

1. Technical capacity to administer and manage the proposed activities;

2. Total budget and staffing; and

3. Evidence of understanding of the National RTAP mission and comprehensive technical approach to delivering the National RTAP.

The proposal should indicate a strong organizational capability to address the issues and activities outlined in the proposal. In addition, the proposal should indicate experience in managing and monitoring sub-recipients and contractors, if any are anticipated in the proposal. The recipient selected must be an eligible recipient for a cooperative agreement with FTA and able to sign the required certifications and assurances. The successful applicant must have no technical, legal or financial issues that would impact its eligibility and authority to apply for and accept FTA funds or carry out the award's scope of work.

e. Ability To Work With Stakeholders and Build Partnerships at the National Level

The proposal must include a plan for effective and meaningful stakeholder engagement. The proposal will be evaluated based in the quality and effectiveness of the plan for engaging and supporting stakeholder engagement to drive the activities of the National RTAP.

f. Plan To Evaluate the National RTAP Activities

FTA will evaluate the effectiveness of proposed performance measures and the plan for collecting and reporting on data related to the National RTAP's products activities, and outcomes.

2. Review and Selection Process

A technical evaluation committee made up of FTA staff will screen each application for eligibility and evaluate proposals based on the published evaluation criteria outlined in this notice. FTA may request additional information from applicants to clarify information contained within the proposal. After consideration of the findings of the technical evaluation committee, the FTA Administrator will determine the final selection.

3. Integrity and Performance Review

Prior to making an award, FTA is required to review and consider any information about the applicant that is in the Federal Awardee Performance and Integrity Information Systems (FAPIIS) accessible through SAM.GOV. An applicant may review and comment on information about itself that a Federal awarding agency previously entered. FTA will consider any comments by the applicant, in addition to the other information in FAPIIS, in making a judgment about the applicant's integrity, business ethics, and record of performance under Federal awards when completing the review of risk posed by applicants as described in 2 CFR 200.206, Federal Awarding Agency Review of Risk Posed by Applicants.

F. Federal Award Administration

1. Federal Award Notices

FTA will notify the successful organization by email or telephone of their status and the selection will be announced FTA's website. Following notification, the successful entity will be required to submit its application through the FTA Transit Award Management System (Tramps). FTA will work with the successful applicant to develop a detailed cooperative agreement and may require modifications to the proposal before a cooperative agreement is awarded. FTA will award and manage a cooperative agreement through Tramps. The selection of a cooperative agreement recipient under this NOFO will go through the Congressional notification and release process.

2. Administrative and National Policy Requirements

a. Grant Requirements

The successful applicant will execute their cooperative agreement through TrAMS and adhere to the FTA grant requirements of the National RTAP Program. For more information, see FTA Circular 9040.1G: Formula Grants for Rural Areas: Program Guidance and Application Instructions, available here: https://www.transit.dot.gov/regulations-and-guidance/fta-circular-90401g-formula-grants-rural-areas-program-guidance-and. Upon notification of intent to award funds, the recipient must execute the Award in TrAMS within 90 days; otherwise, FTA may withdraw its award.

b. Standard Assurances

Selected recipients must comply with all Federal statutes, regulations, executive orders, directives, FTA circulars, and other Federal administrative requirements in carrying out project supported activities by this FTA award. In addition to these requirements, recipients of FTA funds are required to execute the most current Certifications and Assurances before entering into a grant or cooperative agreement.

c. Statement of Work

Once selected for award, the recipient will be asked to outline a plan of action, a Statement of Work (SOW), in a format provided by FTA. The SOW includes estimated milestone dates and performance measures and goals for major activities and products which are SMART—specific, measurable, achievable, relevant, and timebound. Activities should be justified in terms of eligible program activities and proposals should clearly demonstrate the connection between the planned work and at least one of the specific program activities cited. The Statement of Work also should address supporting activities, such as plans for engaging participants and/or dissemination strategies for sharing the results, if such are critical to the success of the supported program.

d. Measuring Outcomes

The recipient will be required to assist FTA in evaluating the project and its outcomes. FTA will evaluate the project according to the metrics and goals approved in the Statement of Work for the project. FTA anticipates applying metrics, among others, that will demonstrate target audience usage and feedback on the services and resources of the center.

e. Data Access & Data Sharing

Recipients funded under this announcement will be required to gather and share all relevant and required data with FTA within appropriate and agreed-upon timelines, to support any project evaluations.

In Response to the White House Office of Science and Technology Policy memorandum, dated August 25, 2022, titled “Ensuring Free, Immediate, and Equitable Access to Federally Funded Research,” the Department is incorporating Public Access requirements into all funding awarded (e.g., grants, cooperative agreements, etc.) for scientific research. Recipients are required to include these obligations in any sub-awards or other related funding agreements.

Recipients must remove all confidential business information (CBI) or personally identifiable information (PII) information before providing public access to any project data. All appropriate data are to be accessible to FTA and the public for a minimum of five years after the period of performance has expired. Recipients and sub-recipients must make available to FTA copies of all work developed in performance of a project funded under this announcement, including but not limited to software and data.

f. Knowledge Transfer

Recipients and sub-recipients may be asked, during the period of performance, to participate in information exchange meetings, webinars, or outreach events to support FTA's goal of advancing models of success and information that is helping to address human services transportation coordination.

3. Reporting

Post-award reporting requirements include submission of Federal Financial Reports and Milestone Progress Reports in TrAMS on a quarterly basis. Documentation is required for payment. Additional reporting may be required specific to the National Rural Transportation Assistance Program.

As part of completing the annual certifications and assurances required of FTA recipients, a successful applicant must report on the suspension or debarment status of itself and its principals. If the award recipient's active grants, cooperative agreements, and procurement contracts from all Federal awarding agencies exceeds $10,000,000 for any period of time during the period of performance of an award made pursuant to this Notice, the recipient must comply with the Recipient integrity and Performance Matters reporting requirements described in Appendix XII to 2 CFR part 200.

The Federal Financial Accountability and Transparency Act (FFATA) requires data entry at the FFATA Sub Award Reporting System (https://www.FSRS.gov) for all sub-awards and sub-contracts issued for $25,000 or more, as well as addressing executive compensation for both grantee and subaward organizations. Additionally, FTA may evaluate and report on the success of the program. Applicants may be required to provide information for this purpose indicating the need, problem, or opportunity addressed by activities of the program. The national significance and relevance to the public transportation industry must also be clearly demonstrated.

G. Federal Awarding Agency Contacts

For further information concerning this notice, please contact the Technical Assistance program manager Heather Edmonds by phone at 202-366-3748, or by email at heather.edmonds@dot.gov. A TDD is available for individuals who are deaf or hard of hearing at 800-877-8339.

To ensure that applicants receive accurate information about eligibility or the program, applicants are encouraged to contact FTA directly with questions, rather than through intermediaries or third parties.

H. Other Information

For more information on FTA's Rural and Tribal Transit Resources, visit https://www.transit.dot.gov/rural.

For more information on FTA's Sponsored Technical Assistance Centers see https://www.transit.dot.gov/regulations-and-programs/access/ccam/about/federal-transit-administration-sponsored-technical.

For information on the Rural Transportation Assistance Program, visit https://www.transit.dot.gov/funding/grants/rural-transportation-assistance-program-5311b3.

Veronica Vanterpool,
Acting Administrator.

[FR Doc. 2024-20655 Filed 9-11-24; 8:45 am]

BILLING CODE 4910-57-P